DEPARTMENT OF COMMERCE

National Oceanic and Atmospheric Administration

[RTID 0648-XF068]

Western Pacific Fishery Management Council; Public Meetings

AGENCY: National Marine Fisheries Service (NMFS), National Oceanic and Atmospheric Administration (NOAA), Commerce.

ACTION: Notice of public meeting.

SUMMARY: The Western Pacific Fishery Management Council (Council) will hold a meeting of its Fishery Data Collection and Research Committee (FDCRC) and FDCRC Technical Subcommittee to discuss and make recommendations on fishery management issues in the Western Pacific Region.

DATES: The meetings will be held on Tuesday, August 5, 2025, and Wednesday, August 6, 2025. For specific times and agendas, see SUPPLEMENTARY INFORMATION.

ADDRESSES: The Council will hold its FDCRC Technical Subcommittee meeting will be held by web conference via WebEx. Specific information on joining the meeting, connecting to the web conference and providing oral public comments will be posted on the Council website at www.wpcouncil.org. For assistance with the web conference connection, contact the Council office at (808) 522-8220.

The FDCRC meeting will be held as a hybrid meeting for members and the public, with a remote participation option available via Webex. In-person attendance for the FDCRC meeting will be hosted at the Council Office, 1164 Bishop Street, Suite 1400, Honolulu, HI 96813.

FOR FURTHER INFORMATION CONTACT: Contact Kitty M. Simonds, Executive Director, Western Pacific Fishery Management Council; phone: (808) 522-8220.

SUPPLEMENTARY INFORMATION: The FDCRC Technical Subcommittee meeting will be held between 12 p.m. and 5 p.m. (Hawaii Standard Time [HST]) on Tuesday, August 5, 2025. The FDCRC meeting will be held between 9 a.m. and 5 p.m. (HST) on Wednesday, August 6, 2025.

Public Comment periods will be provided in the agendas. The order in which the agenda items are addressed may change. The meetings will run as late as necessary to complete scheduled business.

Schedule and Agenda for the FDCRC Technical Subcommittee Meeting

Tuesday, August 5, 2025, 12 p.m. to 5 p.m. (HST)

1. Welcome and Introductions

2. Review of FDCRC Strategic Plan and Standard Operating Procedures and Protocols (SOPP)

3. Pacific Insular Fisheries Monitoring and Assessment Planning Summit (PIFMAPS) Action Items and Priorities Follow-up

4. Annual Stock Assessment and Fishery Evaluation (SAFE) Report Updates and Improvements

5. Exploring Alternative Data Collection Methods

A. Barriers/Issues and Concerns

B. Options for Improvements

6. Inflation Reduction Act Projects

7. Public Comment

8. Discussion and Recommendations

9. Other Business

Schedule and Agenda for the FDCRC Meeting

Wednesday, August 6, 2025, 9 a.m. to 5 p.m. (HST)

1. Welcome and Introductions

2. Review of Agenda

3. Review of FDCRC Strategic Plan and SOPP

A. Strategic Plan Review

B. SOPP Review

C. FDCRC Technical Subcommittee Recommendations

4. Review of PIFMAPS

A. Review of PIFMAPS Outcomes

B. Status of Panel Recommendations

C. Uncompleted Tasks and Priorities-Follow-up

5. Improving Annual SAFE Reports

A. Issues and Concerns

B. Plans for Improvements

6. Data Collection

A. Barriers to Data Collection

B. Alternative Data Collection Methods

7. Council Inflation Reduction Act Projects

8. Fishery Management Plan Development and Implementation

9. Public Comment

10. Discussion and Recommendations

11. Other Business

Special Accommodations: These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: July 23, 2025.
Rey Israel Marquez,
Acting Deputy Director, Office of Sustainable Fisheries, National Marine Fisheries Service.

[FR Doc. 2025-14088 Filed 7-24-25; 8:45 am]

BILLING CODE 3510-22-P